DEPARTMENT OF LABOR

Employment and Training Administration

Determinations Regarding Eligibility To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of February 1, 2022 through February 28, 2022.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Subject firm | Location | Reason(s)
96,923 | OECO, LLC | Milwaukie, OR | Secondary Component Supplier.
97,015 | Marathon Petroleum Corporation | Kenai, AK | Company Imports of Articles.
97,032 | ON Semiconductor | South Portland, ME | Shift in Production to a Foreign Country.
98,005 | Stant USA Corporation | Pine Bluff, AR | Shift in Production to an FTA Country or Beneficiary.
98,100 | Sulzer Pumps (US) Inc., Pumps Equipment Division | Portland, OR | Actual/Likely Increase in Imports following a Shift Abroad.
98,104 | Baxter Healthcare, Integrated Supply Chain & Quality Division | Brooklyn Park, MN | Shift in Production to an FTA Country or Beneficiary.
98,105 | Kemper Valve & Fittings Corp | Pleasanton, TX | Increased Customer Imports.
98,105A | Kemper Valve & Fittings Corp | Odessa, TX | Increased Customer Imports.
98,108 | Belden DBA West Penn Wire | Washington, PA | Shift in Production to an FTA Country or Beneficiary.
98,128 | Rebecca Taylor Inc | New York, NY | Increased Company Imports.
98,133 | TE Connectivity | Carrollton, TX | Shift in Production to an FTA Country or Beneficiary.
98,148 | Philips Ultrasound Inc. and Philips North America LLC | Bothell, WA | Actual/Likely Increase in Imports following a Shift Abroad.
98,156 | Sensata Technologies, Inc | Carpinteria, CA | Shift in Production to an FTA Country or Beneficiary.
98,160 | Superior Industries International Arkansas | Fayetteville, AR | Shift in Production to an FTA Country or Beneficiary.
98,161 | Protek Medical Supplies, Inc | Coralville, IA | Shift in Production to an FTA Country or Beneficiary.
98,166 | ZF | Lebanon, TN | Shift in Production to an FTA Country or Beneficiary.
98,171 | NRI Electronics Inc | Rochester, MN | Shift in Production to an FTA Country or Beneficiary.
98,173 | Resolute Forest Products US Inc | Calhoun, TN | Increased Company Imports.
98,183 | M-D Metal Source | West Columbia, SC | Shift in Production to an FTA Country or Beneficiary.

Negative Determinations for Trade Adjustment Assistance

The following investigations revealed that the eligibility criteria for TAA have not been met for the reason(s) specified.

TA-W No. | Subject firm | Location | Reason(s)
96,711 | GMCH Kokomo Assembly | Kokomo, IN | No Shift in Production or Other Basis.
96,871 | Beck Steel Inc | Lubbock, TX | No Shift in Production or Other Basis.
96,915 | NIKE, Inc | Beaverton, OR | No Sales or Service Decline or Other Basis.
96,926 | Steel Parts Manufacturing, Inc | Tipton, IN | No Shift in Production or Other Basis.
96,950 | Dometic Corporation | Elkhart, IN | No Sales or Production Decline or Other Basis.
97,006 | Halliburton Energy Services, Inc | Prudhoe Bay, AK | No Shift in Production or Other Basis.
97,025 | Petro Star, Inc | North Pole, AK | No Employment Decline or Threat of Separation or ITC.
97,025A | Petro Star Inc | Valdez, AK | No Employment Decline or Threat of Separation or ITC.
97,073 | Stanadyne, LLC. | Windsor, CT | No Shift in Services or Other Basis.
98,039 | Siemens Energy, Inc | Orlando, FL | Workers Do Not Produce an Article.
98,076 | Emerson Process Management, LLLP | Eden Prairie, MN | Predominant Cause of Layoffs Unrelated to Imports, Shift in Production to Beneficiary Country, or Increase in Imports Following a Shift.
98,076A | Emerson Process Management, LLLP | Round Rock, TX | Predominant Cause of Layoffs Unrelated to Imports, Shift in Production to Beneficiary Country, or Increase in Imports Following a Shift.
98,085 | GM Saginaw Metal Casting Operations | Saginaw, MI | No Sales or Production Decline/Shift in Production (Domestic Transfer).
98,090 | TPI Iowa, LLC | Newton, IA | No Sales or Production Decline/Shift in Production (Domestic Transfer).
98,091 | Maine Bucket Company Inc | Lewiston, ME | Predominant Cause of Layoffs Unrelated to Imports, Shift in Production to Beneficiary Country, or Increase in Imports Following a Shift.
98,101 | Laminate Technologies of Oregon, LLC | White City, OR | No Import Increase and/or Production Shift Abroad.
98,105B | Kemper Valve & Fittings Corp. | Houston, TX | No Employment Decline.
98,119 | Cardinal Health | Whitestone, NY | Workers Do Not Produce an Article.
98,119A | Cardinal Health | Dublin, OH | Workers Do Not Produce an Article.
98,119B | Cardinal Health | Greensboro, NC | Workers Do Not Produce an Article.
98,122 | RedSail Technologies, LLC | Anacortes, WA | No Import Increase and/or Production Shift Abroad.
98,123 | K2 Advisors LLC | Stamford, CT | Workers Do Not Produce an Article.
98,127 | Comprehensive Decommissioning International | Plymouth, MA | Workers Do Not Produce an Article.
98,138 | Freres Lumber Company, Inc | Lyons, OR | No Sales or Production Decline/Shift in Production (Domestic Transfer).
98,138A | Freres Lumber Company, Inc | Lyons, OR | No Sales or Production Decline/Shift in Production (Domestic Transfer).
98,138B | Freres Lumber Company, Inc | Mill City, OR | No Sales or Production Decline/Shift in Production (Domestic Transfer).
98,153 | BitTitan, Inc | Bellevue, WA | Workers Do Not Produce an Article.
98,155 | Slant/Fin Corporation | Greenvale, NY | No Sales or Production Decline/Shift in Production (Domestic Transfer).
98,159 | CNH Industrial America LLC | Burlington, IA | No Sales or Production Decline/Shift in Production (Domestic Transfer).
98,162 | Astec-Carlson Paving Products Inc | Tacoma, WA | Predominant Cause of Layoffs Unrelated to Imports, Shift in Production to Beneficiary Country, or Increase in Imports Following a Shift.
98,172 | Moxie Solar, Inc | North Liberty, IA | Workers Do Not Produce an Article.
98,176 | Nexplore US | Minneapolis, MN | No Sales or Production Decline/Shift in Production (Domestic Transfer).
98,177 | Sierra Pacific Industries | Eugene, OR | No Sales or Production Decline/Shift in Production (Domestic Transfer).
98,179 | Setterstix, Inc | Cattaraugus, NY | No Sales or Production Decline/Shift in Production (Domestic Transfer).
98,184 | UPS, Global Business Service Division | Dunmore, PA | Workers Do Not Produce an Article.
98,186 | RAI Services Company (RAISC) | Winston-Salem, NC | Predominant Cause of Layoffs Unrelated to Imports, Shift in Production to Beneficiary Country, or Increase in Imports Following a Shift.

I hereby certify that the aforementioned determinations were issued during the period of February 1, 2022 through February 28, 2022. These determinations are available on the Department's website https://www.dol.gov/agencies/eta/tradeact under the searchable listing determinations or by calling the Office of Trade Adjustment Assistance toll free at 888-365-6822.

Signed at Washington, DC, this 3rd day March 2022.
Hope D. Kinglock,
Certifying Officer, Office of Trade Adjustment Assistance.

[FR Doc. 2022-05266 Filed 3-11-22; 8:45 am]

BILLING CODE 4510-FN-P